DEPARTMENT OF ENERGY

Federal Energy Regulatory Commission

[Docket No. CP00-68-001]

Questar Pipeline Company; Notice of Amendment

April 4, 2001.

Take notice that on March 30, 2001, Questar Pipeline Company (Questar), 180 East 100 South, Salt Lake City, Utah 84111, filed in Docket No. CP00-68-001, an amendment to its initial application filed in Docket No. CP00-68-000, requesting authority to modify the compression and pipeline facilities, all as more fully set forth in the application on file with the Commission and open to public inspection. This filing may also be viewed on the web at http://www.ferc.fed.us/online/rims.htm. (Call 202-208-2222for assistance.)

On January 10, 2000, Docket No. CP00-68-000, Questar filed to construct and operate a 24-inch diameter loop of an existing section of its M.L. No. 40 and the entirety of its M.L. No. 41 (known as M.L. No. 104) and to increase the site-rated horsepower of compression at the existing Oak Spring Compressor Station near Price, Utah. The Commission on December 14, 2000 issued a “Preliminary Determination on Non-Environmental Issues,” 93 FERC ¶ 61,279 (2000).

In the amended application, Questar states that recent market developments have required modifications to its initially proposed M.L. No 104 facilities. Questar indicates that these modifications include the installing of larger compressor engines at the existing Oak Spring Compressor Station; the changing of the 24-inch diameter pipe-yield strength from X-65 to X-70 to provide greater pipe strength while reducing the quantity of steel that is required in the manufacturing process; and the changing in the pipe wall thickness from 0.375 to 0.500-inch for the 18-mile section of the proposed pipeline extending from Payson to Elberta, Utah.

Questar states further, in the amended application, that the terms of the Questar/CIG Supply Partnership Agreement have changed. Upon the M.L. No. 104 facilities in-service date, Questar states that it will sell CIG Supply a 31.3 percent undivided interest, rather than 50 percent, in the M.L. No 104 project at Questar's cost. With this move, Questar states it will be retaining a 68.7 percent interest in the M.L. No 104 facilities.

Questar also states that it has renegotiated the transportation service agreement with CIG Resources Company (CIG Resources) in that Questar has sold to replacement shippers, the reserved daily capacity on M.L. No 104 that CIG Resources did not keep. In addition, Questar states that it sold the 2,000 Dth per day of M.L. No 104 capacity previously unsold and that the entire 272,000 Dth per day of incremental capacity created by the M.L. No 104 project is now fully subscribed.

Any questions regarding this application should be directed to Alan K. Allred, Questar Regulated Services Company, 180 East 100 South, P.O. Box 43560, Salt Lake City, Utah 84145-0360, at 1-801-324-5768.

There are two ways to become involved in the Commission's review of this project. First, any person wishing to obtain legal status by becoming a party to the proceedings for this project should, on or before April 16, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding.

Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documental documents issued by the Commission) and will not have the right to seek court review of the Commission's final order.

The Commission may issued a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Also, comments protests, and interventions may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-8771 filed 4-9-01;8:45am]

BILLING CODE 6717-01-M